DEPARTMENT OF ENERGY

Federal Energy Regulatory Commission

[Docket No. RP00-157-004

Kern River Gas Transmission Company; Notice of Proposed Changes in FERC Gas Tariff

June 5, 2000.

Take notice that on May 31, 2000, Kern River Gas Transmission Company (Kern River) tendered for filing as part of its FERC Gas Tariff, Second Revised Volume No. 1, First Revised Sheet No. 912, to be effective June 1, 2000.

Kern River states that the purpose of this filing is to implement a negotiated rate transaction between Kern River and Nevada Power Company (Nevada Power), and to reflect the revised negotiated rate transaction between Kern River and Sempra Energy Trading Corporation (Sempra) in the Tariff, in accordance with the Commission's Policy Statement on Alternatives to Traditional Cost-of-Service Ratemaking for Natural Gas Pipelines.

Kern River states that a copy of this filing has been served upon its customers and interested state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-14563 Filed 6-8-00; 8:45 am]

BILLING CODE 6717-01-M